DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on August 5, 2013 (Federal Register/Vol. 78, No. 150/pp. 47488-47489).

DATES: Submit comments to the Office of Management and Budget (OMB) on or before November 29, 2013.

FOR FURTHER INFORMATION CONTACT: Alan Block at the National Highway Traffic Safety Administration, Office of Behavioral Safety Research (NTI-131), W46-499, Department of Transportation, 1200 New Jersey Avenue SE., Washington, DC 20590. Mr. Block's phone number is 202-366-6401 and his email address is alan.block@dot.gov.

SUPPLEMENTARY INFORMATION: OMB Control Number: 2127-0667.

Type of Request: Renewal.

Title: Focus Groups for Traffic Safety Programs, Interventions and Countermeasures.

Form No.: This collection of information uses no standard form.

Type of Review: Regular.

Respondents: Each year NHTSA anticipates conducting 140 focus groups annually, or 420 over the three year period under a renewed clearance. Likely respondents are licensed drivers 18 years of age and older who have not participated in a previous focus group session. In some cases, stakeholders such as law enforcement and health officials may participate in the focus groups. Each respondent would participate in one focus group.

Estimated Number of Respondents: There will be an average of 10 participants per focus group, for an annual total of 1,400 respondents and a three year total of 4,200 respondents.

Estimated Time per Response: Each respondent would participate in a single focus group that would average 80 minutes in duration. Participants will be recruited by intercept or telephone using a brief screening questionnaire estimated to take no more than another 10 minutes, for a total of 90 minutes.

Total Estimated Annual Burden Hours: The total estimated annual burden would be 140 groups × 10 participants × 90 minutes = 2,100 hours. Total estimated burden under the three year period covered by the clearance would be 6,300 hours.

Frequency of Collection: Focus groups will be conducted on an as-needed (periodic) basis during each of the three years covered by the clearance.

Abstract: The National Highway Traffic Safety Administration (NHTSA) proposes to renew its generic clearance to conduct focus groups. NHTSA anticipates the need to periodically conduct focus group sessions to refine its efforts to reduce traffic injuries and fatalities. Session participation would be voluntary and the focus group participants would receive remuneration for their involvement. The respondents would not incur any reporting cost from the information collection. The respondents also would not incur any record keeping burden or record keeping cost from the information collection. Focus group topics will include: Strategic messaging (e.g., slogans or advertisement concepts concerning seat belt use, impaired driving, driver distraction, tire pressure monitoring), problem identification (e.g., discussions with high-risk groups on beliefs, attitudes, driving behaviors, or reactions to interventions and countermeasures), and resource development (e.g., testing materials designed to communicate essential information about traffic safety issues such as vehicle or equipment performance rating systems). For each focus group project, NHTSA will submit an individual Information Collection Request (ICR) to the Office of Management and Budget (OMB) detailing the specific nature and methodology of planned focus group sessions prior to any collection activity covered under this generic clearance.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC, on October 25, 2013.
Jeffrey Michael,
Associate Administrator, Research and Program Development.

[FR Doc. 2013-25756 Filed 10-29-13; 8:45 am]

BILLING CODE 4910-59-P